DEPARTMENT OF COMMERCE

International Trade Administration

[A-351-838, A-533-840, A-549-822]

Certain Frozen Warmwater Shrimp from Brazil, India, and Thailand: Notice of Initiation of Antidumping Duty Administrative Reviews and Request for Revocation of Order in Part

AGENCY: Import Administration, International Trade Administration, Department of Commerce.

SUMMARY: The Department of Commerce (Department) received timely requests to conduct administrative reviews of the antidumping duty orders on certain frozen warmwater shrimp (shrimp) from Brazil, India, and Thailand. The anniversary month of these orders is February. In accordance with 19 CFR 351.221, we are initiating these administrative reviews. The Department received a request to revoke one antidumping duty order in part.

DATES: Effective Date: April 2, 2012.

FOR FURTHER INFORMATION CONTACT: Kate Johnson at (202) 482-4929 (Brazil), Henry Almond at (202) 482-0049 (India), and Holly Phelps at (202) 482-0656 (Thailand), AD/CVD Operations, Office 2, Import Administration, International Trade Administration, U.S. Department of Commerce, 14th Street and Constitution Avenue NW, Washington, DC 20230.

Background

During the anniversary month of February 2012, the Department received timely requests for administrative reviews of the antidumping duty orders on shrimp from Brazil, India, and Thailand from the Ad Hoc Shrimp Trade Action Committee (hereinafter, Domestic Producers), the American Shrimp Processors Association (ASPA), and certain individual companies, in accordance with 19 CFR 351.213(b). The Department is now initiating administrative reviews of these orders covering multiple companies for Brazil, India, and Thailand, as noted in the “Initiation of Reviews” section of this notice. The Department also received a timely request to revoke in part the antidumping duty order on certain frozen warmwater shrimp from India with respect to three exporters.

All deadlines for the submission of various types of information, certifications, or comments or actions by the Department discussed below refer to the number of calendar days from the applicable starting time.

Notice of No Sales

If a producer or exporter named in this notice of initiation had no exports, sales, or entries during the period of review (POR), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (Act).

Respondent Selection

In the event the Department limits the number of respondents for individual examination in these administrative reviews, the Department intends to select respondents based on U.S. Customs and Border Protection (CBP) data for U.S. imports during the POR. We intend to release the CBP data under Administrative Protective Order (APO) to all parties having an APO within seven days of publication of this initiation notice and to make our decision regarding respondent selection within 21 days of publication of this Federal Register notice. The Department invites comments regarding the CBP data and respondent selection within five days of placement of the CBP data on the record of the applicable review.

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of these reviews and will not collapse companies at the respondent selection phase unless there has been a determination to collapse certain companies in a previous segment of these antidumping proceedings (i.e., investigation, administrative review, or changed circumstances review) or in a proceeding under Section 129 of the Uruguay Round Agreements Act. For any company subject to these reviews, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Initiation of Reviews

In accordance with section 751(a)(1) of the Act, we are initiating administrative reviews of the antidumping duty orders on shrimp from Brazil, India and Thailand. We intend to issue the final results of these reviews by February 28, 2013.

| Period to be reviewed
Antidumping Duty Proceeding
Brazil: Certain Frozen Warmwater Shrimp, A-351-838 | 2/1/11-1/31/12
Amazonas Industria Alimenticias S.A.
Comissaria Eichenberg Ltda.
New Symbol Comercio E Exportacao de Pescados Ltda.
India: Certain Frozen Warmwater Shrimp, A-533-840 | 2/1/11-1/31/12
Abad Fisheries
Accelerated Freeze-Drying Co.
Adilakshmi Enterprises
Allana Frozen Foods Pvt. Ltd.
Allanasons Ltd.
AMI Enterprises
Amulya Seafoods
Anand Aqua Exports
Ananda Aqua Applications/Ananda Aqua Exports (P) Limited/Ananda Foods ¹
Andaman Seafoods Pvt. Ltd. ²
Angelique Intl
Anjaneya Seafoods
Apex Exports ³
Arvi Import & Export
Asvini Exports
Asvini Fisheries Private Limited
Avanti Feeds Limited
Ayshwarya Seafood Private Limited
Baby Marine Exports
Baby Marine International
Baby Marine Sarass
Bhatsons Aquatic Products
Bhavani Seafoods
Bijaya Marine Products
Blue Fin Frozen Foods Pvt. Ltd.
Blue Water Foods & Exports P. Ltd.
Bluefin Enterprises
Bluepark Seafoods Private Ltd. ²
BMR Exports
Britto Exports
C P Aquaculture (India) Ltd.
Calcutta Seafoods Pvt. Ltd.
Capithan Exporting Co.
Castlerock Fisheries Ltd.
Chemmeens (Regd)
Cherukattu Industries ²
Choice Canning Company
Choice Trading Corporation Private Limited
Coastal Corporation Ltd.
Cochin Frozen Food Exports Pvt. Ltd.
Coreline Exports
Corlim Marine Exports Pvt. Ltd.
Damco India Private
Devi Fisheries Limited
Devi Marine Food Exports Private Ltd./Kader Exports Private Limited/Kader Investment and Trading Company Private Limited/Liberty Frozen Foods Pvt. Ltd./Liberty Oil Mills Ltd./Premier Marine Products/Universal Cold Storage Private Limited ⁴
Devi Sea Foods Limited ⁵
Diamond Seafood Exports/Edhayam Frozen Foods Pvt. Ltd./Kadalkanny Frozen Foods/Theva & Company ⁶
Digha Seafood Exports
Esmario Export Enterprises
Exporter Coreline Exports
Falcon Marine Exports Limited/K.R. Enterprises ⁷
Five Star Marine Exports Private Limited
Forstar Frozen Foods Pvt. Ltd.
Frontline Exports Pvt. Ltd.
G A Randerian Ltd.
Gadre Marine Exports
Galaxy Maritech Exports P. Ltd.
Gayatri Seafoods
Geo Aquatic Products (P) Ltd.
Geo Seafoods
Goodwill Enterprises
Grandtrust Overseas (P) Ltd.
GVR Exports Pvt. Ltd.
Haripriya Marine Export Pvt. Ltd.
Harmony Spices Pvt. Ltd.
HIC ABF Special Foods Pvt. Ltd.
Hindustan Lever, Ltd.
Hiravata Ice & Cold Storage
Hiravati Exports Pvt. Ltd.
Hiravati International Pvt. Ltd. (located at APM—Mafco Yard, Sector—18, Vashi, Navi, Mumbai—400 705, India)
Hiravati International Pvt. Ltd. (located at Jawar Naka, Porbandar, Gujarat, 360 575, India)
IFB Agro Industries Ltd.
Indian Aquatic Products
Indo Aquatics
Innovative Foods Limited
International Freezefish Exports
Interseas
ITC Limited, International Business
ITC Ltd.
Jagadeesh Marine Exports
Jaya Satya Marine Exports
Jaya Satya Marine Exports Pvt. Ltd.
Jayalakshmi Sea Foods Private Limited
Jinny Marine Traders
Jiya Packagings
K R M Marine Exports Ltd.
K.V. Marine Exp.
Kalyan Aqua & Marine Exp. India Pvt. Ltd.
Kalyanee Marine
Kanch Ghar
Kay Kay Exports ²
Kings Marine Products
Koluthara Exports Ltd.
Konark Aquatics & Exports Pvt. Ltd.
Landauer Ltd.
Libran Cold Storages (P) Ltd.
Lighthouse Trade Links Pvt. Ltd.
Magnum Estates Limited ³
Magnum Export
Magnum Sea Foods Limited ³
Malabar Arabian Fisheries
Malnad Exports Pvt. Ltd.
Mangala Marine Exim India Pvt. Ltd.
Mangala Sea Products ²
Meenaxi Fisheries Pvt Ltd.
MSC Marine Exporters
MSRDR Exports
MTR Foods
N.C. John & Sons (P) Ltd.
Naga Hanuman Fish Packers
Naik Frozen Foods ²
Naik Frozen Foods Pvt., Ltd. ²
Naik Seafoods Ltd. ²
Navayuga Exports
Nekkanti Sea Foods Limited
Nila Sea Foods Pvt. Ltd.
Nine Up Frozen Foods
Overseas Marine Export
Paragon Sea Foods Pvt. Ltd.
Parayil Food Products Pvt., Ltd.
Penver Products (P) Ltd.
Pesca Marine Products Pvt., Ltd.
Pijikay International Exports P Ltd.
Pisces Seafoods International
Premier Exports International
Premier Marine Foods
Premier Seafoods Exim (P) Ltd.
R V R Marine Products Private Limited ³
Raa Systems Pvt. Ltd.
Raju Exports
Ram's Assorted Cold Storage Ltd. ³
Raunaq Ice & Cold Storage
Raysons Aquatics Pvt. Ltd.
Razban Seafoods Ltd.
RBT Exports
RDR Exports
Riviera Exports Pvt. Ltd.
Rohi Marine Private Ltd.
S & S Seafoods
S Chanchala Combines
S. A. Exports
Safa Enterprises
Sagar Foods
Sagar Grandhi Exports Pvt. Ltd.
Sagar Samrat Seafoods
Sagarvihar Fisheries Pvt. Ltd. ²
SAI Marine Exports Pvt. Ltd. ³
SAI Sea Foods
Sandhya Aqua Exports
Sandhya Aqua Exports Pvt. Ltd. ³
Sandhya Marines Limited
Santhi Fisheries & Exports Ltd.
Sarveshwari Exp.
Sarveshwari Ice & Cold Storage Pvt. Ltd
Satya Seafoods Private Limited
Sawant Food Products
Seagold Overseas Pvt. Ltd.
Selvam Exports Private Limited
Sharat Industries Ltd.
Shimpo Exports ²
Shimpo Exports Pvt. Ltd. ²
Shippers Exports
Shiva Frozen Food Exp. Pvt., Ltd.
Shree Datt Aquaculture Farms Pvt. Ltd.
Shroff Processed Food & Cold Storage P Ltd.
Silver Seafood
Sita Marine Exports
Sowmya Agri Marine Exports
Sprint Exports Pvt. Ltd.
Sri Chandrakantha Marine Exports
Sri Sakkthi Cold Storage
Sri Sakthi Marine Products P Ltd.
Sri Satya Marine Exports
Sri Venkata Padmavathi Marine Foods Pvt. Ltd.
Srikanth International ⁸
SSF Ltd.
Star Agro Marine Exports Private Limited
Sun-Bio Technology Limited
Suryamitra Exim (P) Ltd.
Suvarna Rekha Exports Private Limited
Suvarna Rekha Marines P Ltd.
TBR Exports Pvt Ltd.
Teekay Marine P. Ltd. ³
Tejaswani Enterprises
The Waterbase Ltd. ²
Triveni Fisheries P Ltd.
Uniroyal Marine Exports Ltd.
Usha Seafoods
V.S Exim Pvt Ltd.
Veejay Impex
Victoria Marine & Agro Exports Ltd.
Vinner Marine
Vishal Exports
Wellcome Fisheries Limited
West Coast Frozen Foods Private Limited
Z A Sea Foods Pvt. Ltd.
Thailand: Certain Frozen Warmwater Shrimp, A-549-822 | 2/1/11-1/31/12
A Foods 1991 Co., Ltd./May Ao Foods Co., Ltd. ⁹
A. Wattanachai Frozen Products Co., Ltd. ¹⁰
A.S. Intermarine Foods Co., Ltd.
ACU Transport Co., Ltd.
Anglo-Siam Seafoods Co., Ltd.
Apex Maritime (Thailand) Co., Ltd.
Apitoon Enterprise Industry Co., Ltd.
Applied DB
Asian Seafood Coldstorage (Sriracha)
Asian Seafoods Coldstorage Public Co., Ltd./Asian Seafoods Coldstorage (Suratthani) Co./STC Foodpak Ltd. ¹⁰
Assoc. Commercial Systems
B.S.A. Food Products Co., Ltd.
Bangkok Dehydrated Marine Product Co., Ltd.
C Y Frozen Food Co., Ltd.
C.P. Retailing and Marketing Co., Ltd.
Calsonic Kansei (Thailand) Co., Ltd.
Century Industries Co., Ltd.
Chaivaree Marine Products Co., Ltd.
Chaiwarut Company Limited
Charoen Pokphand Foods Public Company Limited ¹⁰
Chonburi LC
Chue Eie Mong Eak Ltd. Part.
Commonwealth Trading Co., Ltd.
Core Seafood Processing Co., Ltd.
CP Merchandising Co., Ltd. ¹⁰
Crystal Frozen Foods Co., Ltd. and/or Crystal Seafood
Daedong (Thailand) Co. Ltd.
Daiei Taigen (Thailand) Co., Ltd.
Daiho (Thailand) Co., Ltd.
Dynamic Intertransport Co., Ltd.
Earth Food Manufacturing Co., Ltd.
F.A.I.T. Corporation Limited
Far East Cold Storage Co., Ltd.
Findus (Thailand) Ltd.
Fortune Frozen Foods (Thailand) Co., Ltd.
Frozen Marine Products Co., Ltd.
Gallant Ocean (Thailand) Co., Ltd.
Gallant Seafoods Corporation
Global Maharaja Co., Ltd.
Golden Sea Frozen Foods Co., Ltd. ¹⁰
Golden Thai Imp. & Exp. Co., Ltd.
Good Fortune Cold Storage Co. Ltd.
Good Luck Product Co., Ltd.
Grobest Frozen Foods Co., Ltd.
GSE Lining Technology Co., Ltd.
Gulf Coast Crab Intl.
H.A.M. International Co., Ltd.
Haitai Seafood Co., Ltd.
Handy International (Thailand) Co., Ltd.
Heng Seafood Limited Partnership
Heritrade Co., Ltd.
HIC (Thailand) Co., Ltd.
High Way International Co., Ltd.
I.T. Foods Industries Co., Ltd.
Inter-Oceanic Resources Co., Ltd.
Inter-Pacific Marine Products Co., Ltd.
K & U Enterprise Co., Ltd.
K Fresh
K. D. Trading Co., Ltd.
K.L. Cold Storage Co., Ltd.
KF Foods Limited
Kiang Huat Sea Gull Trading Frozen Food Public Co., Ltd.
Kibun Trdg
Kingfisher Holdings Ltd.
Kitchens of the Oceans (Thailand) Company, Limited ¹⁰
Klang Co., Ltd.
Kongphop Frozen Foods Co., Ltd.
Kosamut Frozen Foods Co., Ltd.
Lee Heng Seafood Co., Ltd.
Leo Transports
Li-Thai Frozen Foods Co., Ltd.
Lucky Union Foods Co., Ltd.
Maersk Line
Magnate & Syndicate Co., Ltd.
Mahachai Food Processing Co., Ltd.
Marine Gold Products Ltd.
Merit Asia Foodstuff Co., Ltd.
Merkur Co., Ltd.
Ming Chao Ind Thailand
N&N Foods Co., Ltd.
NR Instant Produce Co., Ltd.
Namprik Maesri Ltd. Part.
Narong Seafood Co., Ltd.
Nongmon SMJ Products
Ongkorn Cold Storage Co., Ltd./Thai-Ger Marine Co., Ltd.
Pacific Queen Co., Ltd.
Pakfood Public Company Limited/Asia Pacific (Thailand) Co., Ltd./Chaophraya Cold Storage Co., Ltd./Okeanos Co., Ltd./Okeanos Food Co., Ltd./Takzin Samut Co., Ltd. ¹¹
Penta Impex Co., Ltd.
Pinwood Nineteen Ninety Nine
Piti Seafood Co., Ltd.
Premier Frozen Products Co., Ltd.
Preserved Food Specialty Co., Ltd.
Queen Marine Food Co., Ltd.
Rayong Coldstorage (1987) Co., Ltd.
S&D Marine Products Co., Ltd.
S&P Aquarium
S&P Syndicate Public Company Ltd.
S. Chaivaree Cold Storage Co., Ltd.
S. Khonkaen Food Industry Public Co., Ltd. and/or S. Khonkaen Food Ind. Public
S.K. Foods (Thailand) Public Co. Limited
Samui Foods Company Limited
SB Inter Food Co., Ltd.
SCT Co., Ltd.
Sea Bonanza Food Co., Ltd.
SEA NT'L CO., LTD.
Seafoods Enterprise Co., Ltd.
Seafresh Fisheries/Seafresh Industry Public Co., Ltd.
Search & Serve
Shianlin Bangkok Co., Ltd.
Shing Fu Seaproducts Development Co.
Siam Food Supply Co., Ltd.
Siam Intersea Co., Ltd.
Siam Marine Products Co. Ltd.
Siam Ocean Frozen Foods Co. Ltd.
Siamchai International Food Co., Ltd.
Smile Heart Foods
SMP Products, Co., Ltd. ¹⁰
Southport Seafood Co., Ltd. ¹⁰
Star Frozen Foods Co., Ltd.
Starfoods Industries Co., Ltd.
Suntechthai Intertrading Co., Ltd.
Surapon Foods Public Co., Ltd./Surat Seafoods Co., Ltd. ¹⁰
Surapon Nichirei Foods Co., Ltd.
Suratthani Marine Products Co., Ltd.
Suree Interfoods Co., Ltd.
T.S.F. Seafood Co., Ltd.
Tanaya International Co., Ltd.
Tanaya Intl.
Tep Kinsho Foods Co., Ltd.
Teppitak Seafood Co., Ltd.
Tey Seng Cold Storage Co., Ltd.
Thai Agri Foods Public Co., Ltd.
Thai Mahachai Seafood Products Co., Ltd.
Thai Ocean Venture Co., Ltd.
Thai Patana Frozen
Thai Prawn Culture Center Co., Ltd.
Thai Royal Frozen Food Co., Ltd.
Thai Spring Fish Co., Ltd.
Thai Union Frozen Products Public Co., Ltd./Thai Union Seafood Co., Ltd. ¹²
Thai Union Manufacturing Company Limited
Thai World Imports and Exports Co., Ltd. ¹⁰
Thai Yoo Ltd., Part.
The Siam Union Frozen Foods Co., Ltd. ¹⁰
The Union Frozen Products Co., Ltd./Bright Sea Co., Ltd. ¹³
Trang Seafood Products Public Co., Ltd.
Transamut Food Co., Ltd.
Tung Lieng Tradg
United Cold Storage Co., Ltd.
V. Thai Food Product Co., Ltd. ¹⁰
Xian-Ning Seafood Co., Ltd.
Yeenin Frozen Foods Co., Ltd.
YHS Singapore Pte
ZAFCO TRDG
¹ In the 2007-2008 administrative review, the Department found that the following companies comprised a single entity: Ananda Aqua Exports (P) Ltd., Ananda Foods, and Ananda Aqua Applications. See Certain Frozen Warmwater Shrimp From India: Preliminary Results and Preliminary Partial Rescission of Antidumping Duty Administrative Review, 74 FR 9991, 9994 (Mar. 9, 2009) (2007-2008 Indian Shrimp Preliminary Results), unchanged in Certain Frozen Warmwater Shrimp From India: Final Results and Partial Rescission of Antidumping Duty Administrative Review, 74 FR 33409 (July 13, 2009) (2007-2008 Indian Shrimp Final Results). Absent information to the contrary, we intend to treat these companies as a single entity for purposes of this administrative review.
² The requests for review from the interested parties included certain companies with similar names and/or addresses. We have contacted these companies for clarification regarding their correct names and/or addresses. Pending receipt of this information, where name differences are distinct, we have treated these companies as separate entities for purposes of initiation.
³ The interested parties' requests for review included certain companies with similar names and/or addresses. For purposes of initiation, we have treated these companies as the same entity based on information obtained in prior administrative reviews. See the March 30, 2012, Memorandum from Holly Phelps to The File entitled, “Placing Public Information from Prior Antidumping Duty Administrative Reviews on the Record of the 2011-2012 Antidumping Duty Administrative Review on Certain Frozen Warmwater Shrimp from India.”
⁴ In the 2004-2006 administrative review, the Department found that the following companies comprised a single entity: Devi Marine Food Exports Private Limited, Kader Investment and Trading Company Private Limited, Kader Exports Private Limited, Liberty Frozen Foods Private Limited, Liberty Oil Mills Limited, Premier Marine Products, and Universal Cold Storage Private Limited. See 2004-2006 Indian Shrimp Final Results, 72 FR at 52058. Absent information to the contrary, we intend to continue to treat these companies as a single entity for purposes of this administrative review.
⁵ The Department received a request for an administrative review of the antidumping order on shrimp from India with respect to Devi Sea Foods Limited (Devi). Shrimp produced and exported by Devi was excluded from this order effective February 1, 2009. See Certain Frozen Warmwater Shrimp From India: Final Results of Antidumping Duty Administrative Review, Partial Rescission of Review, and Notice of Revocation of Order in Part, 75 FR 41813, 41814 (July 19, 2010). However, shrimp produced by other Indian producers and exported by Devi remain subject to the order. Thus, this administrative review with respect to Devi covers only shrimp which was produced in India by other companies and exported by Devi.
⁶ In the 2006-2007 administrative review, the Department found that the following companies comprised a single entity: Diamond Seafoods Exports, Edhayam Frozen Foods Pvt. Ltd., Kadalkanny Frozen Foods, and Theva & Company. See Certain Frozen Warmwater Shrimp from India: Preliminary Results and Preliminary Partial Rescission of Antidumping Duty Administrative Review, 73 FR 12103, 12106 (Mar. 6, 2008), unchanged in Certain Frozen Warmwater Shrimp From India: Final Results and Partial Rescission of Antidumping Duty Administrative Review, 73 FR 40492 (July 15, 2008). Absent information to the contrary, we intend to continue to treat these companies as a single entity for purposes of this administrative review.
⁷ In the 2007-2008 administrative review, the Department found that the following companies comprised a single entity: Falcon Marine Exports Limited and K.R. Enterprises. See 2007-2008 Indian Shrimp Preliminary Results, 74 FR at 9994, unchanged in 2007-2008 Indian Shrimp Final Results, 74 FR at 33409. Absent information to the contrary, we intend to continue to treat these companies as a single entity for purposes of this administrative review.
⁸ On August 27, 2010, the Department found that Srikanth International is the successor-in-interest to NGR Aqua International. See Certain Frozen Warmwater Shrimp From India: Final Results of Antidumping Duty Changed Circumstances Review, 75 FR 52718 (Aug. 27, 2010). Because the effective date of this determination is during a prior POR, we have included only Srikanth International for purposes of initiation.
⁹ On December 1, 2011, the Department found that A Foods 1991 Co., Limited is the successor-in-interest to May Ao Company Limited. See Notice of Final Results of Antidumping Duty Changed Circumstances Review: Certain Frozen Warmwater Shrimp from Thailand, 75 FR 74684 (Dec. 1, 2011). Because the effective date of this determination is during a prior POR, we have included only A Foods 1991 Co., Limited for purposes of initiation.
¹⁰ The requests for review from the interested parties included certain companies with similar names and/or addresses. For purposes of initiation, we have treated these companies as the same entity based on information obtained prior to initiation of this administrative review. See the March 30, 2012, Memorandum from Holly Phelps to The File entitled, “Placing Public Information from the 2010-2011 Antidumping Duty Administrative Review on the Record of the 2011-2012 Antidumping Duty Administrative Review on Certain Frozen Warmwater Shrimp from Thailand.”
¹¹ In the 2007-2008 administrative review, the Department found that the following companies comprised a single entity: Pakfood Public Company Limited, Asia Pacific (Thailand) Co., Ltd., Chaophraya Cold Storage Co. Ltd., Okeanos Co. Ltd., Okeanos Food Co. Ltd., and Takzin Samut Co. Ltd. See Certain Frozen Warmwater Shrimp from Thailand: Final Results and Partial Rescission of Antidumping Duty Administrative Review, 74 FR 47551 (Sept. 16, 2009), and accompanying Issues and Decision memorandum at Comment 6. Absent information to the contrary, we intend to continue to treat these companies as a single entity for purposes of this administrative review.
¹² In the 2006-2007 administrative review, the Department found that the following companies comprised a single entity: Thai Union Frozen Products Public Co., Ltd. and Thai Union Seafood Co., Ltd. See Certain Frozen Warmwater Shrimp from Thailand: Preliminary Results and Preliminary Partial Rescission of Antidumping Duty Administrative Review, 73 FR 12088 (Mar. 6, 2008), unchanged in Certain Frozen Warmwater Shrimp from Thailand: Final Results and Final Partial Rescission of Antidumping Duty Administrative Review, 73 FR 50933 (Aug. 29, 2008). Absent information to the contrary, we intend to continue to treat these companies as a single entity for purposes of this administrative review.
¹³ In the less-than-fair-value investigation, the Department found that the following companies comprised a single entity: The Union Frozen Products Co., Ltd. and Bright Sea Co., Ltd. See Notice of Preliminary Determination of Sales at Less Than Fair Value, Postponement of Final Determination, and Negative Critical Circumstances Determination: Certain Frozen and Canned Warmwater Shrimp From Thailand, 69 FR 47100 (Aug. 4, 2004), unchanged in Notice of Final Determination of Sales at Less Than Fair Value and Negative Final Determination of Critical Circumstances: Certain Frozen and Canned Warmwater Shrimp From Thailand, 69 FR 76918 (Dec. 23, 2004). Absent information to the contrary, we intend to continue to treat these companies as a single entity for purposes of this administrative review.

Interested parties must submit applications for disclosure under administrative protective orders in accordance with 19 CFR 351.305. On January 22, 2008, the Department published Antidumping and Countervailing Duty Proceedings: Documents Submission Procedures; APO Procedures, 73 FR 3634 (Jan. 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty proceeding must certify to the accuracy and completeness of that information. See section 782(b) of the Act. Parties are hereby reminded that revised certification requirements are in effect for company/government officials as well as their representatives in all segments of any antidumping duty proceedings initiated on or after March 14, 2011. See Certification of Factual Information to Import Administration During Antidumping and Countervailing Duty Proceedings: Interim Final Rule, 76 FR 7491 (Feb. 10, 2011) (Interim Final Rule), amending 19 CFR 351.303(g)(1) and (2). The formats for the revised certifications are provided at the end of the Interim Final Rule. The Department intends to reject factual submissions in any proceeding segments initiated on or after March 14, 2011, if the submitting party does not comply with the revised certification requirements.

These initiations and this notice are in accordance with section 751(a)(1) of the Act and 19 CFR 351.221(c)(1)(i) and (f)(2)(i).

Dated: March 28, 2012.
Gary Taverman,
Acting Deputy Assistant Secretary for Antidumping and Countervailing Duty Operations.

[FR Doc. 2012-7874 Filed 3-30-12; 8:45 am]

BILLING CODE 3510-DS-P